COMMISSION ON CIVIL RIGHTS

Agenda and Notice of Public Meetings of the Delaware Advisory Committee

AGENCY: Commission on Civil Rights.

ACTION: Announcement of public meetings.

SUMMARY: Notice is hereby given, pursuant to the provisions of the rules and regulations of the U.S. Commission on Civil Rights (Commission), and the Federal Advisory Committee Act (FACA), that the Delaware State Advisory Committee to the Commission will hold two, two-hour virtual briefings to discuss racial disparities in COVID-19 testing, infections, treatment, vaccinations and other factors, in Delaware. The first virtual panel presentation titled, COVID-19 Health Disparities, is scheduled on Wednesday, September 15, 2021, at 1:00 p.m. (ET). The second virtual panel presentation titled, COVID-19 Social Disparities, is scheduled on Tuesday, October 12, 2021, at 2:00 p.m. (ET).

DATES:

—Wednesday, September 15, 2021, at 1:00 p.m. (ET)

• To join by web conference: https://bit.ly/3wV2fIv

• To join by phone only, dial 1-800-360-9505; Access code: 199 221 3041#

—Tuesday, October 12, 2021, at 2:00 p.m. (ET)

• To join by web conference: https://bit.ly/3Aq6xtq

• To join by phone only, dial 1-800-360-9505; Access code: 199 202 7111#

FOR FURTHER INFORMATION CONTACT: Ivy Davis at ero@usccr.gov or by phone at (202) 530-8468.

SUPPLEMENTARY INFORMATION: Each meeting is available to the public through the WebEx links above and all participants will be asked to register before being admitted into the meeting. Registration is requested so that agency staff can keep registrants informed about the Committee's activities, including its planned report. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for this meeting.

Members of the public are entitled to make brief comments during the Public Comment portion of the agenda—following the conclusion of each Virtual Panel Presentation. Members of the public may also submit written comments; the written comments must be emailed to the Eastern Regional Office within 30 days following the meeting. Written comments may be emailed to: Ivy Davis at ero@usccr.gov. Persons who desire additional information may contact the Regional Programs Unit at (202) 539-8468. Records and documents discussed during the meeting will be available for public viewing as they become available at www.facadatabase.gov. Persons interested in the work of this advisory committee are advised to go to the Commission's website, www.usccr.gov, or to contact the Regional Programs Unit at the above email address or phone number.

Agenda Briefings

Wednesday, September 15, 2021, at 1 p.m. (ET) and Tuesday, October 12, 2021, at 2 p.m. (ET)

I. Roll Call

II. Welcome

III. Virtual Panel Presentation

IV. Public Comment

V. Closing Remarks

VI. Adjourn

Dated: August 24, 2021.
David Mussatt,
Supervisory Chief, Regional Programs Unit.

[FR Doc. 2021-18577 Filed 8-27-21; 8:45 am]

BILLING CODE P